INTERNATIONAL TRADE COMMISSION

[Investigation No. 731-TA-745 (Second Review)]

Steel Concrete Reinforcing Bar From Turkey; Determination

On the basis of the record ¹ developed in the subject five-year review, the United States International Trade Commission (Commission) determines, pursuant to section 751(c) of the Tariff Act of 1930 (19 U.S.C. 1675(c)), that revocation of the antidumping duty order on steel concrete reinforcing bar from Turkey would not be likely to lead to continuation or recurrence of material injury to an industry in the United States within a reasonably foreseeable time.²

¹ The record is defined in sec. 207.2(f) of the Commission's Rules of Practice and Procedure (19 CFR § 207.2(f)).

² Commissioners Charlotte R. Lane and Irving A. Williamson dissenting.

Background

The Commission instituted this review on February 1, 2008 (73 FR 6206) and determined on May 6, 2008 that it would conduct a full review (73 FR 27847, May 14, 2008). Notice of the scheduling of the Commission's review and of a public hearing to be held in connection therewith was given by posting copies of the notice in the Office of the Secretary, U.S. International Trade Commission, Washington, DC, and by publishing the notice in the Federal Register on June 11, 2008 (73 FR 33116). The hearing was held in Washington, DC, on October 16, 2008, and all persons who requested the opportunity were permitted to appear in person or by counsel.

The Commission transmitted its determination in this review to the Secretary of Commerce on December 15, 2008. The views of the Commission are contained in USITC Publication 4052 (December 2008), entitled Steel Concrete Reinforcing Bar from Turkey: Investigation No. 731-TA-745 (Second Review).

By order of the Commission.
Issued: December 15, 2008.
Marilyn R. Abbott,
Secretary to the Commission.

[FR Doc. E8-30179 Filed 12-18-08; 8:45 am]

BILLING CODE 7020-02-P